DEPARTMENT OF COMMERCE

Bureau of Industry and Security

Action Affecting Export Privileges; Maurice Subilia; Correction

In the Federal Register of Tuesday, March 20, 2007, the Bureau of Industry and Security published an Order denying the export privileges of Maurice Subilia at 13085. This notice is being published to correct certain standard language regarding the scope of the “Denied Person” in that Order, which was defined in a way that made Maurice Subilia appear as a corporation rather than an individual. Paragraph I of the text of the Order currently defines the scope of the “Denied Person” as follows: “* * * Maurice Subilia, 17 Oakwood Road, Kennebunkport, ME 04046, his successors or assigns and when acting for or on behalf of Subilia, his officers, representatives, agents, or employees * * *.” This language should instead read as follows: “ * * * Maurice Subilia, 17 Oakwood Road, Kennebunkport, ME 04046, and when acting for or on behalf of Subilia, his representatives, assigns, agents, or employees * * *.”.

Dated: July 31, 2007.
Eileen M. Albanese,
Director, Office of Exporter Services.

[FR Doc. 07-3888 Filed 8-8-07; 8:45 am]

BILLING CODE 3510-DT-M